DEPARTMENT OF DEFENSE

Office of the Secretary

Submission for OMB Review; Comment Request

ACTION: Notice.

The Department of Defense has submitted to OMB for clearance, the following proposal for collection of information under the provisions of the Paperwork Reduction Act (44 U.S.C. Chapter 35). The Office of Management and Budget has approved this information collection through September 30, 2003.

DATES: Consideration will be given to all comments received by June 9, 2003.

Title, Form Number and OMB Number: Application for Correction of Military Records Under the Provisions of Title 10, U.S. Code, Section 1552; DD Form 149; OMB Control Number 0704-0003.

Type of Request: Revision of a currently approved collection.

Number of Respondents: 25,000.

Responses Per Respondent: 1.

Annual Responses: 25,000.

Average Burden Per Response: 30 minutes.

Annual Burden Hours: 12,500.

Needs and Uses: This information collection requirement is necessary for all Service personnel (current and former service members) to apply to their respective Boards for Correction of Military Records (BCMR) for a correction of their military records under Title 10, United States Code Section 1552. The BCMRs of the Services are the highest administrative boards and appellate review authorities in the Services for the resolution of military disputes. The Service Secretaries, acting through the BCMRs, are empowered with broad powers and are duly bound to correct records if an error or injustice exists. The range of issues includes, but is not limited to awards, clemency petitions (of courts-martial sentences), disabilities, evaluation reports, home of record, memoranda of reprimands, promotions, retirements, separations, survivor benefit plans, and titling decisions by law enforcement authorities.

This information collection is needed to provide current and former service members with a method through which to request correction of a military record, and to provide the Services with the basic data needed to process the request.

Affected Public: Individuals or households.

Frequency: On occasion.

Respondent's Obligation: Required to obtain or retain benefits.

OMB Desk Officer: Ms. Jacqueline Zeiher.

Written comments and recommendations on the proposed information collection should be sent to Ms. Zeiher at the Office of Management and Budget, Desk Officer for DOD, Room 10236, New Executive Office Building, Washington, DC 20503.

DOD Clearance Officer: Mr. Robert Cushing.

Written requests for copies of the information collection should be sent to Mr. Cushing, WHS/DIOR, 1215 Jefferson Davis Highway, Suite 1204, Arlington, VA 22202-4302.

Dated: April 25, 2003.
Patricia L. Toppings,
Alternate OSD Federal Register, Liaison Officer, Department of Defense.

[FR Doc. 03-11563 Filed 5-8-03; 8:45 am]

BILLING CODE 5001-08-M